DEPARTMENT OF EDUCATION

[Docket No.: ED-2015-ICCD-0137]

Agency Information Collection Activities; Submission to the Office of Management and Budget for Review and Approval; Comment Request; Evaluation of Effectiveness of the Scholarships for Opportunity and Results (SOAR) Program

AGENCY: Institute of Education Sciences (IES), Department of Education (ED) .

ACTION: Notice.

SUMMARY: In accordance with the Paperwork Reduction Act of 1995 (44 U.S.C. chapter 3501 et seq.), ED is proposing an extension of an existing information collection.

DATES: Interested persons are invited to submit comments on or before April 1, 2016.

ADDRESSES: To access and review all the documents related to the information collection listed in this notice, please use http://www.regulations.gov by searching the Docket ID number ED-2015-ICCD-0137. Comments submitted in response to this notice should be submitted electronically through the Federal eRulemaking Portal at http://www.regulations.gov by selecting the Docket ID number or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 2E-103, Washington, DC 20202-4537.

FOR FURTHER INFORMATION CONTACT: For specific questions related to collection activities, please contact Meredith Bachman, 202-219-2014.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Evaluation of Effectiveness of the Scholarships for Opportunity and Results (SOAR) Program.

OMB Control Number: 1850-0800.

Type of Review: An extension of an existing information collection.

Respondents/Affected Public: State, Local, and Tribal Governments; Individuals and Households; Private Sector.

Total Estimated Number of Annual Responses: 2,131.

Total Estimated Number of Annual Burden Hours: 866.

Abstract: The foundation of this evaluation is a randomized control trial (RCT) comparing outcomes of eligible applicants (students and their parents) assigned by lottery to receive or not receive a scholarship. This design is consistent with the requirement for a rigorous evaluation as well as the need to fairly allocate the scholarships if the program is oversubscribed. Because the law also specified other kinds of comparisons and analyses, the planned evaluation study includes both quantitative and qualitative components.

In order for the evaluation to have sufficient statistical power to detect policy relevant impacts, the sample consists of 1,771 eligible program applicants in spring 2012 (cohort 1; n = 536), spring 2013 (cohort 2; n = 718), and in spring 2014 (cohort 3, n = 517) (see Part B of this submission). OMB approval was already obtained for this evaluation and this ICR covers follow up data collection for cohorts 2 and 3.

Data Collection: Evaluation data will be collected for the three cohorts of program applicants from a variety of sources listed below. Each cohort will have baseline data as well as three years of follow up (post-lottery) data collection; 2013-2015 for cohort 1, 2014-2016 for cohort 2, and 2015-2017 for cohort 3. In addition to estimating program impact, we will use this experimental study to conducted research about interim outcomes.

Data sources include:

—Student assessments: The Terra Nova assessment will be administered each spring following the lotteries for 3 years (spring 2013-2015 for the 2012 cohort, spring 2014-2016 for the 2013 cohort, and spring 2015-2017 for the 2014 cohort). The follow up assessments will be administered in students' school and will provide the primary outcome measure for the impact evaluation.

School records Administrative records will be collected from DCPS, the District of Columbia Public Charter School Board and participating private schools in the fall of each year to obtain data on prior year attendance, persistence, disciplinary actions, and grades for members of the treatment and control groups.

—Parent surveys: Annual surveys of evaluation sample members' parents in each follow up year. These surveys will examine such issues as reasons for continued participation or withdrawal, involvement in school, satisfaction with school choices, and perceptions of school safety, leadership, and offerings. The survey will be mixed mode. (Web with phone or paper follow up).

Student surveys The surveys will be administered to each evaluation sample student in grades four and above in each of the follow up years at the same time (and place) as the student assessments.

—Principal surveys: Surveys to be administered to principals in the DC traditional public school, charter school, and private school systems in 2013-2017. Data from principals of students in the treatment and control groups will provide information about school organization and offerings for descriptive analyses of students' school environments and for use as mediators in the impact analysis. The web-based principal surveys will also be used to examine how aware public and private schools are of the DC Opportunity Scholarship Program and whether they are making any changes in response to it. whether they are making any changes in response to it.

Dated: February 26, 2016.
Kate Mullan,
Acting Director, Information Collection Clearance Division, Office of the Chief Privacy Officer, Office of Management.

[FR Doc. 2016-04536 Filed 3-1-16; 8:45 am]

BILLING CODE 4000-01-P